DEPARTMENT OF DEFENSE

Office of the Secretary

[Transmittal No. 20-20]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-20 with attached Policy Justification.

Dated: July 10, 2020.
Aaron T. Siegel,
Alternate OSD Federal Register Liaison Officer, Department of Defense.

BILLING CODE 5001-06-P

BILLING CODE 5001-06-C

Transmittal No. 20-20

Notice of Proposed Issuance of Letter of Offer Pursuant to Section 36(b)(1) of the Arms Export Control Act, as Amended

(i) Prospective Purchaser: Government of Kuwait

(ii) Total Estimated Value:

Major Defense Equipment * | $ 0 million
Other | $200 million
Total | $200 million

(iii) Description and Quantity or Quantities of Articles or Services under Consideration for Purchase: The Government of Kuwait has requested to buy a Patriot missile Repair and Return program as follow-on support.

Major Defense Equipment (MDE):

None

Non-MDE: Included are Patriot GEM-T missile and missile components repair services, transportation, organizational equipment, repair parts, support equipment, tools and test equipment, technical data and publications, personnel training and training equipment, maintenance services, U.S. government and contractor engineering, technical, and logistics support services, and other related elements of logistical and program support.

(iv) Military Department: Army (KU-B-UXS)

(v) Prior Related Cases, if any: KU-B-ULS, KU-B-UMI, KU-B-ZUM

(vi) Sales Commission, Fee, etc., Paid, Offered, or Agreed to be Paid: None

(vii) Sensitivity of Technology Contained in the Defense Article or Defense Services Proposed to be Sold: None

(viii) Date Report Delivered to Congress: May 28, 2020

* As defined in Section 47(6) of the Arms Export Control Act.

POLICY JUSTIFICATION

Kuwait—Patriot Missile Repair and Return

The Government of Kuwait has requested to buy a Patriot missile Repair and Return program as follow-on support to FMS case KU-B-ULS. Included are Patriot GEM-T missile and missile components repair services, transportation, organizational equipment, repair parts, support equipment, tools and test equipment, technical data and publications, personnel training and training equipment, maintenance services, U.S. government and contractor engineering, technical, and logistics support services, and other related elements of logistics support. The total estimated program cost is $200 million.

The proposed sale will support the foreign policy and national security of the United States by helping to improve the security of a Major Non-NATO Ally that is an important force for political stability and economic progress in the Middle East.

The proposed sale of the Repair and Return program for the Kuwait Patriot System will supplement and improve Kuwait's capability to meet current and future threats and provide greater security for its critical oil and natural gas infrastructure. Kuwait will use the enhanced capability to strengthen its homeland defense. Kuwait will have no difficulty absorbing this equipment and services into its armed forces.

The proposed sale of this equipment and support will not alter the basic military balance in the region.

The principal contractors involved with this potential sale are Raytheon Company, Huntsville, AL; Lockheed Martin, Huntsville, AL; LEIDOS, Inc., Huntsville, AL; and KBR, Huntsville, AL. There are no known offsets agreements proposed in connection with this potential sale.

Implementation of this proposed sale will require the temporary assignment of five (5) U.S. contractors to provide handling and documentation support for one (1) to two (2) years.

There will be no adverse impact on U.S. defense readiness as a result of this proposed sale.

[FR Doc. 2020-15507 Filed 7-16-20; 8:45 am]

BILLING CODE 5001-06-P